DEPARTMENT OF HEALTH AND HUMAN SERVICES

Administration for Community Living

Delegation of Authority

Notice is hereby given that I have delegated to the Administrator of the Administration for Community Living the following authorities vested in the Secretary:

• The authority to oversee and administer the implementation of the Supporting Grandparents Raising Grandchildren Act (Pub. L. 115-196). This authority may be redelegated, but only to an officer or inferior officer as those terms are used in Art. II, § 2, cl. 2 of the U.S. Constitution.

This delegation excludes the authority to issue regulations and appoint non-federal council members, and shall be exercised in accordance with the Department's applicable policies, procedures, and guidance. This delegation is effective upon date of signature.

Dated: June 3, 2019.
Alex M. Azar II,
Secretary.

[FR Doc. 2019-12141 Filed 6-7-19; 8:45 am]

BILLING CODE 4154-01-P